DEPARTMENT OF TRANSPORTATION

Federal Aviation Administration

14 CFR Part 39

[Docket No. FAA-2016-3343; Directorate Identifier 2015-SW-078-AD]

RIN 2120-AA64

Airworthiness Directives; Airbus Helicopters (Previously Eurocopter France)

AGENCY: Federal Aviation Administration (FAA), DOT.

ACTION: Notice of proposed rulemaking (NPRM).

SUMMARY: We propose to supersede Airworthiness Directive (AD) 2014-12-12 for Airbus Helicopters (previously Eurocopter France) Model EC130B4 and Model EC120B helicopters. AD 2014-12-12 currently requires inspecting and, if necessary, replacing parts of the sliding door star support attachment assembly. This proposed AD would expand the applicability and provide revised instructions for reinforcing the sliding door. These proposed actions are intended to prevent failure of the sliding door star support attachment, which could inhibit the operation of the sliding door from the inside, delaying the evacuation of passengers during an emergency.

DATES: We must receive comments on this proposed AD by December 27, 2016.

ADDRESSES: You may send comments by any of the following methods:

• Federal eRulemaking Docket: Go to http://www.regulations.gov. Follow the online instructions for sending your comments electronically.

• Fax: 202-493-2251.

• Mail: Send comments to the U.S. Department of Transportation, Docket Operations, M-30, West Building Ground Floor, Room W12-140, 1200 New Jersey Avenue SE., Washington, DC 20590-0001.

• Hand Delivery: Deliver to the “Mail” address between 9 a.m. and 5 p.m., Monday through Friday, except Federal holidays.

Examining the AD Docket

You may examine the AD docket on the Internet at http://www.regulations.gov by searching for and locating Docket No. FAA-2016-3343; or in person at the Docket Operations Office between 9 a.m. and 5 p.m., Monday through Friday, except Federal holidays. The AD docket contains this proposed AD, the European Aviation Safety Agency (EASA) AD, the economic evaluation, any comments received and other information. The street address for the Docket Operations Office (telephone 800-647-5527) is in the ADDRESSES section. Comments will be available in the AD docket shortly after receipt.

For service information identified in this proposed rule, contact Airbus Helicopters, 2701 N. Forum Drive, Grand Prairie, TX 75052; telephone (972) 641-0000 or (800) 232-0323; fax (972) 641-3775; or at http://www.airbushelicopters.com/techpub. You may review service information at the FAA, Office of the Regional Counsel, Southwest Region, 10101 Hillwood Pkwy., Room 6N-321, Fort Worth, TX 76177.

FOR FURTHER INFORMATION CONTACT: David Hatfield, Aviation Safety Engineer, Safety Management Group, Rotorcraft Directorate, FAA, 10101 Hillwood Pkwy., Fort Worth, TX 76177; telephone (817) 222-5116; email david.hatfield@faa.gov.

SUPPLEMENTARY INFORMATION:

Comments Invited

We invite you to participate in this rulemaking by submitting written comments, data, or views. We also invite comments relating to the economic, environmental, energy, or federalism impacts that might result from adopting the proposals in this document. The most helpful comments reference a specific portion of the proposal, explain the reason for any recommended change, and include supporting data. To ensure the docket does not contain duplicate comments, commenters should send only one copy of written comments, or if comments are filed electronically, commenters should submit only one time.

We will file in the docket all comments that we receive, as well as a report summarizing each substantive public contact with FAA personnel concerning this proposed rulemaking. Before acting on this proposal, we will consider all comments we receive on or before the closing date for comments. We will consider comments filed after the comment period has closed if it is possible to do so without incurring expense or delay. We may change this proposal in light of the comments we receive.

Discussion

On June 13, 2014, we issued AD 2014-12-12, Amendment 39-17873 (79 FR 36638, June 30, 2014) for Airbus Helicopters Model EC120B helicopters with serial numbers up to and including 1367 and with a sliding door part number (P/N) C526A2370101 installed and Model EC130B4 helicopters with sliding door P/N C526S1101051 installed. AD 2014-12-12 does not apply to helicopters with modification (MOD) 07 3796 or 07 2921 installed. AD 2014-12-12 requires inspecting the upper and lower locking pin control rod fittings and the star support pin for a crack and reinforcing the sliding door star support stringer by installing three carbon fabric plies.

AD 2014-12-12 was prompted by AD No. 2013-0093, dated April 15, 2013, and corrected on April 17, 2013, issued by EASA, which is the Technical Agent for the Member States of the European Union. EASA AD No. 2013-0093 was issued to correct an unsafe condition for Model EC120B and EC130B4 helicopters after a case was reported where passengers could not open a helicopter's sliding door after landing. EASA advises that an investigation revealed a failure of the sliding door star axle support.

Actions Since AD 2014-12-12 Was Issued

Since we issued AD 2014-12-12, EASA has issued EASA AD No. 2015-0020, dated February 11, 2015, to correct an unsafe condition for Model EC120B helicopters with sliding door P/N C526A2370101 and Model EC130B4 helicopters sliding door P/N C526S1101051. EASA AD No. 2015-0020 does not apply to helicopters with MOD A00565, 07 3796, or 07 2921. EASA AD No. 2015-0020 supersedes EASA AD No. 2013-0093. EASA advises that after it issued AD No. 2013-0093, it discovered that the doors could be installed on all serial-numbered EC120B helicopters. Also, Eurocopter (now Airbus Helicopters) learned of difficulties with installing the angle bracket and plate used to reinforce the sliding door star support. Because of the distance between the star support pin and the bottom of the stringer on composite sliding doors, installation of the angle bracket and plate is not possible in a small number of sliding doors. Eurocopter subsequently revised its repair procedures to provide an alternate method for reinforcing the sliding door star support.

EASA advises that it consequently issued AD No. 2015-0020 to extend the applicability to all serial-numbered EC120B helicopters with the affected sliding doors. EASA AD No. 2015-0020 also requires compliance with the revised service information.

FAA's Determination

These helicopters have been approved by the aviation authority of France and are approved for operation in the United States. Pursuant to our bilateral agreement with France, EASA, its technical representative, has notified us of the unsafe condition described in its AD. We are proposing this AD because we evaluated all known relevant information and determined that an unsafe condition is likely to exist or develop on other products of the same type design.

Related Service Information Under 1 CFR Part 51

We reviewed Eurocopter (now Airbus Helicopters) Alert Service Bulletin (ASB) No. EC120-52A014, Revision 2, dated October 28, 2013, for Model EC120B helicopters and ASB No. 130-52A009, Revision 1, dated January 25, 2013, for Model EC130B4 helicopters. This service information specifies visual and dye penetrant inspections of sections of the sliding door attachment assembly and reinforcement of the sliding door star support. ASB EC120-52A014 was changed at Revision 2 to expand the applicability for all serial-numbered Model 120B helicopters and provides an alternative procedure for reinforcing the sliding door star support.

This service information is reasonably available because the interested parties have access to it through their normal course of business or by the means identified in the ADDRESSES section.

Proposed AD Requirements

This proposed AD would require, within 165 hours time-in-service (TIS):

• Visually inspecting each upper and lower locking pin control rod end fitting (control end fitting) and replacing it before further flight if it is bent, twisted, or broken.

• Cleaning and dye-penetrant inspecting the star support pin for a crack and replacing it before further flight if it is cracked.

• Reinforcing the sliding door star support stringer by installing three carbon fabric plies.

This proposed AD would also prohibit installing a sliding door P/N C526A2370101 on a Model EC120B helicopter, or a sliding door P/N C526S1101051 on a Model EC130B4 helicopter, unless the sliding door star support stringer is reinforced as required by this proposed AD.

Costs of Compliance

We estimate that this proposed AD would affect 261 helicopters of U.S. Registry and that labor costs average $85 a work hour. Based on these estimates, we expect the following costs:

• Visually inspecting the control rod end fittings would require 1 work-hour and a minimal amount for consumable materials for an estimated cost of $85 per helicopter, or $22,185 for the U.S. fleet.

• Replacing the control rod end fittings with airworthy fittings would require 5 work-hours for a labor cost of $425. Parts would cost about $242 for an estimated total cost of $667 per helicopter.

• Dye-penetrant inspecting the star support pin for a crack would require 2 work-hours and no parts for an estimated cost of $170 per helicopter and $44,370 for the U.S. fleet.

• Replacing the star support pin would require 5 work-hours. Parts would cost about $200 for an estimated total cost of $625 per helicopter.

• Installing three carbon fabric plies to reinforce the sliding door star support would require 5 work-hours. Parts would cost $200 for an estimated total cost of $625 per helicopter and $163,125 for the U.S. fleet.

Authority for This Rulemaking

Title 49 of the United States Code specifies the FAA's authority to issue rules on aviation safety. Subtitle I, section 106, describes the authority of the FAA Administrator. “Subtitle VII: Aviation Programs,” describes in more detail the scope of the Agency's authority.

We are issuing this rulemaking under the authority described in “Subtitle VII, Part A, Subpart III, Section 44701: General requirements.” Under that section, Congress charges the FAA with promoting safe flight of civil aircraft in air commerce by prescribing regulations for practices, methods, and procedures the Administrator finds necessary for safety in air commerce. This regulation is within the scope of that authority because it addresses an unsafe condition that is likely to exist or develop on products identified in this rulemaking action.

Regulatory Findings

We determined that this proposed AD would not have federalism implications under Executive Order 13132. This proposed AD would not have a substantial direct effect on the States, on the relationship between the national Government and the States, or on the distribution of power and responsibilities among the various levels of government.

For the reasons discussed, I certify this proposed regulation:

1. Is not a “significant regulatory action” under Executive Order 12866;

2. Is not a “significant rule” under the DOT Regulatory Policies and Procedures (44 FR 11034, February 26, 1979);

3. Will not affect intrastate aviation in Alaska to the extent that it justifies making a regulatory distinction; and

4. Will not have a significant economic impact, positive or negative, on a substantial number of small entities under the criteria of the Regulatory Flexibility Act.

We prepared an economic evaluation of the estimated costs to comply with this proposed AD and placed it in the AD docket.

List of Subjects in 14 CFR Part 39

Air transportation, Aircraft, Aviation safety, Incorporation by reference, Safety.

The Proposed Amendment

Accordingly, under the authority delegated to me by the Administrator, the FAA proposes to amend 14 CFR part 39 as follows:

PART 39—AIRWORTHINESS DIRECTIVES

1. The authority citation for part 39 continues to read as follows:

Authority: 49 U.S.C. 106(g), 40113, 44701.

§ 39.13 [Amended]

2. The FAA amends § 39.13 by removing Airworthiness Directive (AD) 2014-12-12, Amendment 39-17873 (79 FR 36638, June 30, 2014), and adding the following new AD:

Airbus Helicopters (Previously Eurocopter France): Docket No. FAA-2016-3343; Directorate Identifier 2015-SW-078-AD.

(a) Applicability

This AD applies to the following helicopters, certificated in any category, except those with modification A00565, 07 3796, or 07 2921 installed:

(1) Model EC120B helicopters with a sliding door part number (P/N) C526A2370101 installed; and

(2) Model EC130B4 helicopters with a sliding door P/N C526S1101051 installed.

(b) Unsafe Condition

This AD defines the unsafe condition as a failure of the sliding door star axle support. This condition could prevent operation of a sliding door from inside, which could delay evacuation of passengers during an emergency.

(c) Affected ADs

This AD supersedes AD 2014-12-12, Amendment 39-17873 (79 FR 36638, June 30, 2014).

(d) Comments Due Date

We must receive comments by December 27, 2016.

(e) Compliance

You are responsible for performing each action required by this AD within the specified compliance time unless it has already been accomplished prior to that time.

(f) Required Actions

(1) Within 165 hours time-in-service:

(i) Visually inspect each upper and lower locking pin control rod end fitting (control end fitting) for a bend, twist, or breakage. If a control end fitting is bent, twisted, or broken, before further flight, replace the control end fitting with an airworthy control end fitting.

(ii) Clean and dye penetrant inspect the star support pin for a crack in the areas identified as Zone X and Zone Y in Figure 3 of Eurocopter Alert Service Bulletin No. EC120-52A014, Revision 2, dated October 28, 2013 (ASB No. EC120-52A014) or Eurocopter Alert Service Bulletin No. EC130-52A009, Revision 1, dated January 25, 2013 (ASB No. EC130-52A009), as applicable to your model helicopter. If there is a crack in the star support pin, before further flight, replace the star support pin with an airworthy star support pin.

(iii) Reinforce the sliding door star support stringer by installing three carbon fiber plies and re-identify the sliding door by following the Accomplishment Instructions, paragraphs 3.B.2.d. and 3.B.2.e of ASB No. EC120-52A014, or paragraph 3.B.2.d. and the table under paragraph 3.C of ASB No. EC130-52A009, whichever is applicable to your model helicopter.

(2) After the effective date of this AD, do not install a sliding door P/N C526A2370101 on an EC120B helicopter, or a sliding door P/N C526S1101051 on an EC130B4 helicopter, unless the sliding door has been reinforced as required by paragraph (f)(1)(iii) of this AD.

(g) Credit for Actions Previously Completed

Compliance with AD 2014-12-12 (79 FR 366838, June 30, 2014) before the effective date of this AD is considered acceptable for compliance with the corresponding actions specified in paragraph (f)(1) of this AD.

(h) Alternative Methods of Compliance (AMOCs)

(1) The Manager, Safety Management Group, FAA, may approve AMOCs for this AD. Send your proposal to: David Hatfield, Aviation Safety Engineer, Safety Management Group, Rotorcraft Directorate, FAA, 10101 Hillwood Pkwy., Fort Worth, TX 76177; telephone (817) 222-5116; email 9-ASW-FTW-AMOC-Requests@faa.gov.

(2) For operations conducted under a 14 CFR part 119 operating certificate or under 14 CFR part 91, subpart K, we suggest that you notify your principal inspector, or lacking a principal inspector, the manager of the local flight standards district office or certificate holding district office before operating any aircraft complying with this AD through an AMOC.

(i) Additional Information

The subject of this AD is addressed in European Aviation Safety Agency (EASA) AD No. 2015-0020, dated February 11, 2015. You may view the EASA AD on the Internet at http://www.regulations.gov in Docket No. FAA-2016-3343.

(j) Subject

Joint Aircraft Service Component (JASC) Code: 5220, Emergency Exits.

Issued in Fort Worth, Texas, on October 18, 2016.
James A. Grigg,
Acting Manager, Rotorcraft Directorate, Aircraft Certification Service.

[FR Doc. 2016-25748 Filed 10-25-16; 8:45 am]

BILLING CODE 4910-13-P